FEDERAL COMMUNICATIONS COMMISSION

Information Collections Approved by the Office of Management and Budget (OMB)

AGENCY: Federal Communications Commission.

ACTION: Notice.

SUMMARY: The Federal Communications Commission has received Office of Management and Budget (OMB) approval for the following public information collections pursuant to the Paperwork Reduction Act of 1995 (44 U.S.C. 3501-3520). An agency may not conduct or sponsor a collection of information unless it displays a currently valid OMB control number, and no person is required to respond to a collection of information unless it displays a currently valid OMB control number. Comments concerning the accuracy of the burden estimates and any suggestions for reducing the burden should be directed to the person listed in the For Further Information Contact section below.

FOR FURTHER INFORMATION CONTACT: Nakesha Woodward, Wireline Competition Bureau, Telecommunications Access Policy Division at 202-418-7400 or email at Kesha.Woodward@fcc.gov.

SUPPLEMENTARY INFORMATION:

OMB Control Number: 3060-0824.

OMB Approval Date: November 1, 2012.

OMB Expiration Date: November 30, 2015.

Title: Service Provider Identification Number (SPIN) and Contact Information Form, Report and Order, GN Docket No. 09-191 and WC Docket No. 07-52.

Form Number: FCC Form 498.

Estimated Annual Burden: 5,000 respondents; 5,000 responses; 1.5 hours per response; 7,500 burden hours per year; total annual cost burden N/A.

Obligation to Respond: Required to obtain or retain benefits. The statutory authority for this collection is contained in sections 1-4 and 254 of the Communications Act of 1934, as amended, 47 U.S.C. 151-154, 254, and Part 54 of the Commission's rules.

Nature and Extent of Confidentiality: The Commission notes that USAC must preserve the confidentiality of all data obtained from respondents and contributors to the universal service programs, must not use the data except for purposes of administering the universal service programs, and must not disclose data in company-specific form unless directed to do so by the Commission. With respect to the Service Provider Identification Number and Contact Information Form (FCC Form 498), USAC shall publish each participant's name, SPIN, and contact information via USAC's Web site. All other information, including financial institution account numbers or routing information, shall remain confidential.

Needs and Uses: The information collected by FCC Form 498 is used by USAC to disburse federal universal service support consistent with the specifications of eligible participants in the universal service programs. FCC Form 498 submissions also provide USAC with updated contact information so that USAC can contact universal service fund participants when necessary. Without such information, USAC would not be able to distribute support to the proper entities and this would prevent the Commission from fulfilling its statutory responsibilities under the Act to preserve and advance universal service.

Federal Communications Commission.
Bulah P. Wheeler,
Associate Secretary.

[FR Doc. 2012-28347 Filed 11-20-12; 8:45 am]

BILLING CODE 6712-01-P